DEPARTMENT OF ENERGY

Federal Energy Regulatory Commission

Combined Notice of Filings #1

December 27, 2007.

Take notice that the Commission received the following electric rate filings:

Docket Numbers: ER94-389-027; ER02-2509-006; ER00-840-007; ER01-137-005; ER98-1767-010; ER99-2992-007; ER99-3165-007; ER02-1942-006; ER01-596-005; ER01-2690-009; ER02-77-009; ER00-1780-007; ER99-415-014; ER01-389-007; ER01-2641-011; ER01-558-010; ER01-557-010; ER01-560-010; ER01-559-010; ER02-24-009; ER02-26-008; ER02-25-008; ER05-524-003; ER02-963-008.

Applicants: Tenaska Power Services Co.; Kiowa Power Partners, LLC; Tenaska Alabama Partners, L.P.; Tenaska Alabama II Partners, L.P.; Tenaska Frontier Partners, Ltd.; Tenaska Gateway Partners Ltd; Tenaska Georgia Partners LP; Tenaska Virginia Partners, LP; Alabama Electric Marketing, LLC; California Electric Marketing, LLC; New Mexico Electric Marketing, LLC; Texas Electric Marketing, LLC; Commonwealth Chesapeake Company LLC; Calumet Energy Team, LLC; High Desert Power Project, LLC; Holland Energy, LLC; University Park Energy, LLC; Big Sandy Peaker Plant, LLC; Wolf Hills Energy, LLC; Armstrong Energy LLLP; Pleasants Energy LLC; Troy Energy, LLC; Lincoln Generating Facility, LLC; Crete Energy Venture, LLC.

Description: Tenaska Energy Inc et al. submit a supplement to the Notification of Change in Status submitted in the proceedings on 11/13/07.

Filed Date: 12/18/2007.

Accession Number: 20071219-0390.

Comment Date: 5 p.m. Eastern Time on Tuesday, January 8, 2008.

Docket Numbers: ER98-2491-012.

Applicants: Consolidated Edison Energy Inc.

Description: Consolidated Edison Energy Inc submits Substitute Original Sheet 1 et al. to its FERC Electric Tariff, Fifth Revised Volume 1.

Filed Date: 12/18/2007.

Accession Number: 20071219-0389.

Comment Date: 5 p.m. Eastern Time on Tuesday, January 8, 2008.

Docket Numbers: ER01-1071-010; ER06-9-005; ER05-1281-005; ER03-34-009; ER06-1261-003; ER03-1104-006; ER03-1105-006; ER06-1392-002; ER08-197-002; ER07-904-001; ER98-2076-013; ER98-4222-011; ER07-174-004.

Applicants: Badger Windpower LLC; FPL Energy Burleigh County Wind, LLC; FPL Energy Duane Arnold, LLC; FPL Energy Hancock County Wind, LLC; FPL Energy Mower County, LLC; FPL Energy North Dakota Wind, LLC; FPL Energy North Dakota Wind II, LLC; FPL Energy Oliver Wind, LLC; FPL Energy Oliver Wind II, LLC; Fpl Energy Point Beach, LLC; Hawkeye Power Partners LLC; Lake Benton Power Partners II LLC; Osceola Windpower, LLC.

Description: Change in Status of Badger Windpower, LLC, et al. under ER01-1071, et al.

Filed Date: 12/20/2007.

Accession Number: 20071220-5014.

Comment Date: 5 p.m. Eastern Time on Thursday, January 10, 2008.

Docket Numbers: ER02-1695-004; ER01-2742-006; ER02-2309-003.

Applicants: Cabazon Wind Partners, LLC; Rock River I, LLC; Whitewater Hill Wind Partners LLC.

Description: Cabazon Wind Partners, LLC et al. submits revisions to their market-based tariffs to reflect tariff changes mandated by Order 697.

Filed Date: 12/14/2007.

Accession Number: 20071219-0199.

Comment Date: 5 p.m. Eastern Time on Friday, January 4, 2008.

Docket Numbers: ER03-478-018; ER01-3121-013; ER02-2085-007; ER02-417-012; ER02-418-012; ER03-1326-011; ER03-296-014; ER03-416-015; ER03-951-014; ER04-94-012; ER05-1146-012; ER05-1262-010; ER05-332-012; ER05-365-012; ER05-481-012; ER05-534-012; ER06-1093-006; ER06-200-011; ER07-1378-002; ER07-195-003; ER07-240-006; ER07-242-005; ER07-254-003; ER07-287-005; ER07-460-002.

Applicants: PPM Energy Inc.; Klamath Energy LLC; Northern Iowa Windpower LLC; Phoenix Wind Power LLC; Klamath Generation LLC; Colorado Green Holdings, LLC; Flying Cloud Power Partners, LLC; Klondike Wind Power LLC; Moraine Wind LLC; Mountain View Power Partners III, LLC; Shiloh I Wind Project LLC; Flat Rock Windpower LLC; Klondike Wind Power LLC; Elk River Windfarm LLC; Trimont Wind I LLC; Eastern Desert Power LLC; Flat Rock Windpower II LLC; Big Horn Wind Project LLC; Providence Heights Wind, LLC; Locust Ridge Wind Farm, LLC; Twin Buttes Wind LLC; MinnDakota Wind LLC; Casselman Windpower, LLC; Klondike Wind Power III LLC; Dillon Wind LLC.

Description: Notice of Non-Material Change in Status of Iberdrola Renewables Companies.

Filed Date: 12/26/2007.

Accession Number: 20071226-5013.

Comment Date: 5 p.m. Eastern Time on Wednesday, January 16, 2008.

Docket Numbers: ER06-739-007; ER06-738-007; ER03-983-006; ER07-501-003; ER02-537-010; ER07-758-002.

Applicants: East Coast Power Linden Holding, LLC; Cogen Technologies Linden Venture, L.P.; Fox Energy Company LLC; Birchwood Power Partners, L.P.; Shady Hills Power Company, L.L.C.; Inland Empire Energy Center, L.L.C.

Description: Replacement Notice of Change in Status of East Coast Power Linden Holding, LLC, et al.

Filed Date: 12/20/2007.

Accession Number: 20071220-5109.

Comment Date: 5 p.m. Eastern Time on Thursday, January 10, 2008.

Docket Numbers: ER06-758-002; ER06-635-001; ER02-237-009; ER95-1007-020; ER01-2741-005; ER07-34-002; ER03-1151-005; ER00-2235-002; ER99-3320-005; ER06-634-001; ER03-922-006; ER06-759-001.

Applicants: Chambers Cogeneration LP; Edgecombe Genco, LLC; J. Aron & Company; Logan Generating Company, LP; Plains End, LLC; Plains End II, LLC; Power Receivable Finance, LLC; Ouachita Power, LLC; Rathdrum Power, LLC; Spruance Genco, LLC; Southaven Power, LLC; Selkirk Cogen Partners, L.P.

Description: Chambers Cogeneration, LP et al. submits revisions to their market-based tariffs to reflect tariff changes mandated by Order 697.

Filed Date: 12/14/2007

Accession Number: 20071219-0198.

Comment Date: 5 p.m. Eastern Time on Friday, January 4, 2008.

Docket Numbers: ER06-1261-004; ER06-1392-003; ER07-1157-002; ER07-875-001; ER08-197-003.

Applicants: FPL Energy Mower County, LLC; FPL Energy Oliver Wind, LLC; Logan Wind Energy LLC; Peetz Table Wind Energy, LLC; FPL Energy Oliver Wind II, LLC.

Description: Change in Status of FPL Energy Mower County, LLC, et al. under ER06-1261, et al.

Filed Date: 12/21/2007.

Accession Number: 20071221-5096.

Comment Date: 5 p.m. Eastern Time on Friday, January 11, 2008.

Docket Numbers: ER06-1346-004.

Applicants: White Creek Wind I, LLC.

Description: Notice of Change of Status of White Creek Wind I, LLC.

Filed Date: 12/21/2007.

Accession Number: 20071221-5200.

Comment Date: 5 p.m. Eastern Time on Friday, January 11, 2008.

Docket Numbers: ER08-187-001.

Applicants: The United Illuminating Company.

Description: The United Illuminating Company submits substitute tariff sheet for Schedule 10 that removes the proposal for on-peak & off-peak pricing for daily firm point-to-point transmission service etc.

Filed Date: 12/21/2007.

Accession Number: 20071221-0199.

Comment Date: 5 p.m. Eastern Time on Wednesday, January 2, 2008.

Docket Numbers: ER08-347-000.

Applicants: Duke Energy Carolinas, LLC.

Description: Duke Energy Carolinas, LLC submits the Third Revised Rate Schedule 315, the Full Requirements Power Purchase Agreement with Blue Ridge Electric Membership Corp.

Filed Date: 12/17/2007.

Accession Number: 20071220-0169.

Comment Date: 5 p.m. Eastern Time on Monday, January 7, 2008.

Docket Numbers: ER08-348-000.

Applicants: DTE Georgetown, LLC.

Description: Indianapolis Power & Light Co on behalf of DTE Georgetown LLC submits a notice of cancellation of FERC Electric Tariff, Original Volume 1, to become effective 7/24/07.

Filed Date: 12/19/2007.

Accession Number: 20071221-0157.

Comment Date: 5 p.m. Eastern Time on Wednesday, January 9, 2008.

Docket Numbers: ER08-349-000.

Applicants: Northeast Utilities Service Company.

Description: Northeast Utilities Service Co et al. submit a Service Agreement to reflect revised rates etc.

Filed Date: 12/19/2007.

Accession Number: 20071221-0159.

Comment Date: 5 p.m. Eastern Time on Wednesday, January 9, 2008.

Docket Numbers: ER07-351-000.

Applicants: Edison Sault Electric Company.

Description: Edison Sault Electric Co. submits Supplemental Agreement 10 to the contract with Cloverland Electric Cooperative, Inc.

Filed Date: 12/19/2007.

Accession Number: 20071221-0158.

Comment Date: 5 p.m. Eastern Time on Wednesday, January 9, 2008.

Docket Numbers: ER08-363-000.

Applicants: PJM Interconnection, L.L.C.

Description: PJM Interconnection, LLC submits an Executed Interconnection Construction Service Agreement with James River Cogeneration Co et al. under ER08-363.

Filed Date: 12/21/2007.

Accession Number: 20071227-0201.

Comment Date: 5 p.m. Eastern Time on Friday, January 11, 2008.

Docket Numbers: ER08-91-001.

Applicants: Mississippi Power Company.

Description: Request to withdraw request for authorization to use updated depreciation rates filed in ER08-91 of Mississippi Power Company.

Filed Date: 12/21/2007.

Accession Number: 20071221-5212.

Comment Date: 5 p.m. Eastern Time on Friday, January 11, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E7-25515 Filed 1-2-08; 8:45 am]

BILLING CODE 6717-01-P